DEPARTMENT OF TRANSPORTATION

Office of the Secretary

[Docket OST-02-12358]

Application of M&N Aviation, Inc. for Commuter Authority

AGENCY: Department of Transportation.

ACTION: Notice of order to show cause (Order 2002-9-17).

SUMMARY: The Department of Transportation is directing all interested persons to show cause why it should not issue an order finding that M&N Aviation, Inc., is fit, willing, and able under 49 U.S.C. 41738 to provide scheduled passenger service as a commuter air carrier and issue to it a Commuter Air Carrier Authorization.

DATES: Persons wishing to file objections should do so no later than October 4, 2002.

ADDRESSES: Objections and answers to objections should be filed in Docket OST-02-12358 and addressed to the Department of Transportation Dockets (SVC-124, Room PL-401), U.S. Department of Transportation, 400 Seventh Street, SW., Washington, DC 20590, and should be served upon the parties listed in Attachment A to the order.

FOR FURTHER INFORMATION CONTACT: Mr. Howard Serig, Air Carrier Fitness Division (X-56, Room 6401), U.S. Department of Transportation, 400 Seventh Street, SW., Washington, DC 20590, (202) 366-4822.

Dated: September 19, 2002.
Read C. Van De Water,
Assistant Secretary for Aviation and International Affairs.

[FR Doc. 02-24364 Filed 9-24-02; 8:45 am]

BILLING CODE 4910-62-P